DEPARTMENT OF DEFENSE

Department of the Army

[Docket ID: USA-2024-HQ-0008]

Proposed Collection; Comment Request

AGENCY: Department of the Army, Department of Defense (DoD).

ACTION: 60-Day information collection notice.

SUMMARY: In compliance with the Paperwork Reduction Act of 1995, the Department of the Army announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by September 13, 2024.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Defense Forensics and Biometrics Agency, 251 18th Street, Suite 244A, Arlington, VA 22202, ATTN: Mr. Russell Wilson, or call (703) 571-0388.

SUPPLEMENTARY INFORMATION:

Title; Associated Form; and OMB Number: Automated Biometric Identification System (ABIS); OMB Control Number 0702-0127.

Needs and Uses: The DoD ABIS is an authoritative biometrics data repository that processes, matches, and stores biometric identity information data, collected by global U.S. forces, during the course of military operations. The information processed by DoD ABIS (biometric, biographic, behavioral, and contextual data) is collected by DoD military personnel worldwide using hand-held biometric collection devices across the full range of military operations for DoD warfighting, intelligence, law enforcement, security, force protection, base access, homeland defense, counterterrorism, business enterprise purposes as well as in information environment mission areas. Biometric data may also be collected for use in field identification and recovery of persons, or their physical remains, who have been captured, detained, missing, prisoners of war, or personnel recovered from hostile control. The information collected and processed by DoD ABIS is shared, accessed, and leveraged by DoD partners, U.S. Government inter-agency and departmental stakeholders, and approved multi-national partners for intelligence, counterterrorism, military force protection, national security, and law enforcement purposes.

Affected Public: Individuals or households.

Annual Burden Hours: 163,333.

Number of Respondents: 1,400,000.

Responses per Respondent: 1.

Annual Responses: 1,400,000.

Average Burden per Response: 7 minutes.

Frequency: As required.

Dated: July 9, 2024.
Aaron T. Siegel,
Alternate OSD Federal Register Liaison Officer, Department of Defense.

[FR Doc. 2024-15420 Filed 7-12-24; 8:45 am]

BILLING CODE 6001-FR-P